OFFICE OF PERSONNEL MANAGEMENT

Comment Request for Review of Information Collection: Agency Generic Survey Plan OMB #3206-0236

AGENCY: Office of Personnel Management.

ACTION: Notice.

SUMMARY: In accordance with the Paperwork Reduction Act of 1995 (Pub. L. 104-13, May 22, 1995), this notice announces that the Office of Personnel Management (OPM) intends to submit to the Office of Management and Budget a request for review of a revised information collection. The agency Generic Survey Plan is an umbrella for all OPM customer satisfaction surveys used to measure satisfaction with OPM programs and services. This Plan satisfies the requirements of Executive Order 12862 and the guidelines set forth in OMB's “Resource Manual for Customer Surveys”.

The information collection was previously published in the Federal Register on March 14, 2008, at 73 FR 13925 allowing for a 60-day public comment period. No comments were received on this existing information collection. The purpose of this notice is to allow an additional 30 days for public comments. Comments are particularly invited on: Whether this information is necessary for the proper performance of functions of OPM, and whether it will have practical utility; whether our estimate of the public burden of this collection of information is accurate and based on valid assumptions and methodology; and ways in which we can minimize the burden of the collection of information on those who are to respond, through the use of appropriate technological collection techniques or other forms of information technology.

The collections will include web-based (electronic), paper-based, telephone and focus groups surveys. We estimate approximately 1,000,000 surveys will be completed annually. The time estimate varies from 3 minutes to 2 hours to complete with the average being 15 minutes. The annual estimated burden is 250,000 hours.

DATES: Comments on this proposal should be received within 30 calendar days from the date of this publication.

ADDRESSES: Send or deliver comments to: OPM Desk Officer, Office of Information and Regulatory Affairs, Office of Management and Budget, New Executive Office Building, 725 17th Street, NW., Room 10236, Washington, DC 20503.

Please provide your mailing address or Fax number with your request.

Office of Personnel Management.
John Berry,
Director.

[FR Doc. E9-11194 Filed 5-12-09; 8:45 am]

BILLING CODE 6325-47-P